DEPARTMENT OF LABOR

Bureau of Labor Statistics

Proposed Collection, Comment Request

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. The Bureau of Labor Statistics (BLS) is soliciting comments concerning the proposed new collection of the “Quarterly Census of Employment and Wages Green Goods and Services Survey.” A copy of the proposed information collection request (ICR) can be obtained by contacting the individual listed below in the Addresses section of this notice.

DATES: Written comments must be submitted to the office listed in the Addresses section of this notice on or before January 10, 2011.

ADDRESSES: Send comments to Carol Rowan, BLS Clearance Officer, Division of Management Systems, Bureau of Labor Statistics, Room 4080, 2 Massachusetts Avenue, NE., Washington, DC 20212. Written comments also may be transmitted by fax to 202-691-5111 (this is not a toll free number).

FOR FURTHER INFORMATION CONTACT: Carol Rowan, BLS Clearance Officer, at 202-691-7628 (this is not a toll free number). (See ADDRESSES section.)

SUPPLEMENTARY INFORMATION:

I. Background

The Bureau of Labor Statistics (BLS) is seeking clearance for the collection of data on employment related to the production of green goods and services. The new Green Goods and Services (GGS) survey will collect data on employment, fiscal year, and the share of revenue or employment associated with production of green goods or services at the establishment. Additionally, BLS will expand the existing Occupational Employment Statistics (OES) survey to collect data on occupational employment and wages in establishments included in the GGS survey. The expansion of the existing OES survey will be handled through a separate nonsubstantive change request.

As the chief source of government data on employment, BLS will produce data on green goods and services businesses' employment as tasked by the 2010 Congressional Appropriation. This initiative will produce regular tabulations of aggregate employment for businesses whose primary activities fall into green goods and services as defined by BLS. This series will be key to analyzing workforce trends in this area. In addition, data will be published on occupational employment and wages related to these establishments through the OES expansion.

II. Current Action

Office of Management and Budget clearance is being sought for the Quarterly Census of Employment and Wages Green Goods and Services Survey.

From the GGS survey, BLS intends to publish a quarterly count of employment associated with the output of green goods and services at U.S. business establishments to meet the requirement outlined in the 2010 Congressional Appropriation. BLS plans to publish detailed industry data for the U.S. and limited data for States.

This survey will use the business register, Quarterly Census of Employment and Wages (QCEW), maintained by BLS as its sampling frame. The register contains employment information on establishments in the U.S. subject to unemployment insurance taxes. This register covers 98 percent of U.S. jobs, available at the county, Metropolitan Statistical Area (MSA), State, and national levels by industry. The sampling frame for the GGS survey will be restricted to those establishments classified in NAICS codes that are determined to be in scope in the BLS definition of green goods and services.

BLS undertook extensive research to develop data collection forms and methodology and to understand the collection environment related to green goods and services. This research was outlined in a prior Federal Register Notice (75 FR 3926). The research was completed in September 2010; the forms put forth for clearance in this package were field-tested and incorporate the research and lessons learned from field testing of earlier versions of the survey form. The survey will collect data on employment, fiscal year, and revenue or employment share related to green goods and services at each establishment surveyed. The share of revenue will be used to estimate employment when employment share is not reported. BLS determined from prior research and from the recent forms development research that businesses have difficulty providing employment associated with the production of green goods and services while revenue is readily available and less burdensome for the respondent to report.

III. Desired Focus of Comments

The Bureau of Labor Statistics is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submissions of responses.

Type of Review: New Collection.

Agency: Bureau of Labor Statistics.

Title: Green Goods and Services Survey.

OMB Number: 1220-NEW.

Affected Public: Private sector businesses or other for-profits, not-for-profit institutions, farms; Federal Government; State and local governments.

Total Respondents: 120,000.

Frequency: Annual.

Total Responses: 120,000.

Average Time per Response: 15 minutes.

Estimated Total Burden Hours: 30,000.

Total Burden Cost (capital/startup): 482,400.

Total Burden Cost (operating/maintenance): 482,400.

Comments submitted in response to this notice will be summarized and/or included in the request for Office of Management and Budget approval of the information collection request; they also will become a matter of public record.

Signed at Washington, DC, this 5th day of November 2010.
Kimberley Hill,
Chief, Division of Management Systems, Bureau of Labor Statistics.

[FR Doc. 2010-28364 Filed 11-9-10; 8:45 am]

BILLING CODE 4510-24-P